DEPARTMENT OF THE INTERIOR

Bureau of Land Management

[MT-039-1610-DO-059E]

Notice of Intent To Prepare Resource Management Plans and Associated Environmental Impact Statements for the North Dakota and South Dakota Field Offices, North Dakota and South Dakota

AGENCY: Bureau of Land Management, Interior.

ACTION: Notice of intent.

SUMMARY: The Bureau of Land Management (BLM) North Dakota Field Office (NDFO) and South Dakota Field Office (SDFO) intend to prepare Resource Management Plans with associated Environmental Impact Statements (RMP/EIS) for the NDFO and SDFO planning areas. These RMPs will replace the current North Dakota and South Dakota RMPs.

DATES: This notice initiates the public scoping process. Formal scoping will end 60 days after publication of this notice; however, collaboration with the public will continue throughout the process. Comments on issues and planning criteria can be submitted in writing to the address listed below. All public meetings will be announced through the local news media, newsletters, and the BLM Web site: (http://www.mt.blm.gov/ndfo/rmp and http://www.mt.blm.gov/sdfo/rmp ) at least 15 days prior to the event. The minutes and list of attendees for each meeting will be available to the public and open for 30 days to any participant who wishes to clarify the views they expressed.

ADDRESSES: Written comments should be sent or faxed to: John Hartley, BLM RMP Project Manager, BLM North Dakota Field Office, 99 23rd Avenue West, Suite A, Dickinson, ND 58601; Fax—(701) 227-7701; or BLM South Dakota Field Office, 310 Roundup Street, Belle Fourche, SD 57717; Fax—(605) 892-7015. Documents pertinent to this proposal may be examined at either the NDFO or SDFO. Respondents' comments, including their names and street addresses, will be available for public review at the NDFO and SDFO during regular business hours from 7:45 a.m. to 4:30 p.m., Monday through Friday, except holidays, and may be published as part of the RMP/EIS. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

FOR FURTHER INFORMATION CONTACT: For further information and/or to have your name added to our mailing list, contact John Hartley, North Dakota Field Office, at (701) 227-7700.

SUPPLEMENTARY INFORMATION: The BLM's North Dakota (ND) RMP/EIS incorporates a planning area administered by the NDFO located in Dickinson, ND. The land area to be covered under the ND RMP/EIS is approximately 58,500 surface acres of public lands and approximately 4.1 million subsurface acres of federal minerals in North Dakota. The bulk of this mineral acreage is federal coal reserve only. Additional acres are federal oil and gas reserves only; and the remaining acres are made up of all minerals, coal and oil and gas only, and other combinations. The focus of the NDFO has been mineral management on split estate lands (fee surface/federal minerals).

The BLM's South Dakota (SD) RMP/EIS incorporates a planning area administered by the SDFO located in Belle Fourche, SD. The land area to be covered under the SD RMP/EIS is approximately 278,000 subsurface acres of BLM-administered public land located in the western part of the state in Brule, Butte, Custer, Fall River, Haakon, Harding, Jackson, Lawrence, Lyman, Meade, Pennington, Perkins, and Stanley Counties. There are also approximately 1.6 million subsurface acres of federal minerals in South Dakota.

The RMP/EIS revisions to be prepared for the public lands administered by the NDFO and SDFO will identify goals, objectives, standards, and guidelines for management of a variety of resources and values. The scope of the RMP/EISs will be comprehensive. The plans will specify actions, constraints, and general management practices necessary to achieve desired conditions. The plans will also identify any areas requiring special management such as Areas of Critical Environmental Concern. Certain existing standards and guidelines and other BLM plans/plan amendments will be incorporated into the RMP/EISs.

The plans will fulfill the needs and obligations set forth by the National Environmental Policy Act (NEPA), the Federal Land Policy and Management Act (FLPMA), the National Energy Policy Act of 2005, and all other related acts, laws, and regulations associated with land management planning and BLM management policies. The BLM will work collaboratively with the public, local and State governments, and Tribal governments to identify the management decisions that are best suited to local, regional, and national needs and concerns. The public scoping process will identify planning issues and develop planning criteria, including evaluation of the existing RMPs in the context of the needs and interests of the public.

The BLM's decision to begin a new planning effort for the public lands in the NDFO and SDFO is based on public and agency need for revised management guidance to address changing issues. Each RMP/EIS will describe and analyze a range of alternatives, including the No Action alternative (continued management) and a number of action alternatives that will describe options for addressing the major issues. Preliminary issues and management concerns have been identified by BLM personnel, other agencies, and individuals and user groups. The major issues that will be addressed in the development of both RMPs/EISs include the following:

1. Energy development—the significant amount of oil and gas and coal leasing, exploration, and development throughout North Dakota and increasing oil and gas leasing interest in South Dakota;

2. Wildland-Urban Interface—increase in recreational demand for BLM public lands and increasing development adjoining BLM public lands;

3. Management of vegetation;

4. Management of wildlife;

5. Conservation and recovery of special status species;

6. Travel management and access to public lands;

7. Availability and management of public lands for commercial uses; and

8. Land tenure adjustments.

After gathering public comments on what issues the plans should address, the suggested issues will be placed in one of three categories:

1. Issues to be resolved in the plans;

2. Issues to be resolved through policy or administrative action; or

3. Issues that are beyond the scope of the plans.

Rationale will be provided for each issue placed in categories two or three. In addition to determining these major issues, the BLM will address a number of management questions and concerns in the plans. The public is encouraged to help identify these questions and concerns during the scoping phase.

The BLM will use an interdisciplinary approach to consider the variety of resource issues and concerns identified. Disciplines involved in the planning process will include specialists with expertise in minerals and geology, forestry, range, fire and fuels, outdoor recreation, archaeology, paleontology, wildlife and fisheries, lands and realty, hydrology, soils, sociology, environmental justice, and economics.

The following planning criteria have been proposed to guide development of the plans, avoid unnecessary data collection and analyses, and to ensure the plan is tailored to the issues. Other criteria may be identified during the public scoping process. After gathering comments on planning criteria, the BLM will finalize the criteria and provide feedback to the public on the criteria to be used throughout the planning process.

• The RMPs/EISs will recognize valid existing rights.

• Planning decisions will only apply to surface lands and subsurface lands managed by the BLM.

• The ND RMP/EIS will incorporate by reference the EIS Coal Lease ND RMP/Amendment (October 1990); Big Horn Sheep ND RMP Environmental Assessment (EA)/Amendment (July 1991); Standards for Rangeland Health and Guidelines for Livestock Grazing Management for Montana, North Dakota, and South Dakota (August 1997); Off-Highway Vehicle EIS and Plan Amendment for Montana and the Dakotas (June 2003); and the Fire/Fuels Management Plan EA/Plan Amendment for Montana and the Dakotas (September 2003).

• The SD RMP/EIS will incorporate by reference the Oil and Gas RMP/EIS Amendment Miles City District Final EIS (February 1994); Standards for Rangeland Health and Guidelines for Livestock Grazing Management for Montana, North Dakota and South Dakota (August 1997); Off-Highway Vehicle EIS and Plan Amendment for Montana and the Dakotas (June 2003); and the Fire/Fuels Management Plan EA/Plan Amendment for Montana and the Dakotas (September 2003).

• Decisions in the plans will strive to be compatible with the existing plans and policies of affected local, state, and federal agencies as long as the decisions are consistent with the purposes, policies, and programs of federal law, and with regulations applicable to public lands.

• The RMPs/EISs will recognize states' responsibilities and authorities to manage wildlife. The BLM will consult with the ND Game and Fish Department and the SD Department of Game, Fish and Parks, as necessary.

• The BLM and cooperating agencies/governments will jointly develop alternatives for resolution of resource management issues.

• The State Historic Preservation Offices will be consulted and involved throughout the RMP/EIS process.

• Each RMP/EIS will emphasize the protection and enhancement of the planning areas' biodiversity while, at the same time, provide the public with opportunities for compatible activities on public lands.

• Lands acquired by the BLM will be managed in the manner the RMPs/EISs prescribe for adjacent public land, subject to any constraints associated with the acquisition.

• The RMPs/EISs will provide management direction for lands returned to BLM management through revocation of withdrawals. The plans will also address lands acquired through other means.

• Lands already identified for disposal will be reviewed to ensure disposal is in the best interest of the public.

• The National Sage Grouse Strategy requires that impacts to sagebrush habitat and sagebrush-dependent wildlife species (including sage grouse) be analyzed and considered in these RMPs/EISs due to the presence of sage grouse/sagebrush habitats in the planning area.

• Forest management strategies will be consistent with the Healthy Forests Restoration Act and the Tribal Forest Protection Act, where appropriate.

• Fire management strategies will be consistent with the: 2001 Federal Wildland Fire Policy, National Fire Plan; Fire/Fuels Management Plan for Montana and Dakotas; Prescribed Fire Planning and Implementation Procedures Reference Guide, and other relevant policies.

• Geographic Information System (GIS) and metadata information will meet Federal Geographic Data Committee (FGDC) standards, as required by E.O. 12906 of April 11, 1994.

• All proposed management actions will be based upon best available scientific information, research and technology, as well as existing inventory and monitoring information.

• The RMPs/EISs will include adaptive management criteria and protocol to deal with future issues.

• The RMPs/EISs will incorporate Best Management Practices for surface disturbing activities associated with BLM-authorized activities on federal oil and gas leases.

Gene R. Terland,
State Director, Montana State Office.

[FR Doc. E7-13993 Filed 7-18-07; 8:45 am]

BILLING CODE 4310-$$-P